DEPARTMENT OF AGRICULTURE

Office of the Secretary

Meeting Notice of the National Agricultural Research, Extension, Education, and Economics Advisory Board

AGENCY: Research, Education, and Economics, USDA.

ACTION: Notice of meeting.

SUMMARY: In accordance with the Federal Advisory Committee Act of the National Agricultural Research, Extension, and Teaching Policy Act, and the Agriculture Improvement Act of 2018, the United States Department of Agriculture (USDA) announces a meeting of the National Agricultural Research, Extension, Education, and Economics Advisory Board.

DATES: The National Agricultural Research, Extension, Education, and Economics Advisory Board will meet January 28th-30th, 2030. The public may file written comments up to two Weeks after the meeting with the contact person, February 13, 2020.

ADDRESSES: The meeting will take place at USDA-ARS Jornada Experimental Range, 2995 Knox St., Las Cruces, NM, in Wooton Hall on the New Mexico State University campus. Written comments may be sent to: The National Agricultural Research, Extension, Education, and Economics Advisory Board Office, Room 332A, Whitten Building, United States Department of Agriculture, STOP 0321, 1400 Independence Avenue SW, Washington, DC 20250-0321.

FOR FURTHER INFORMATION CONTACT: Michele Esch, Executive Director/Designated Federal Officer, or Shirley Morgan-Jordan, Program Support Coordinator, National Agricultural Research, Extension, Education and Economics Advisory Board, Telephone: (202) 720-3684, fax: (202) 720-6199, or email: nareee@ars.usda.gov.

SUPPLEMENTARY INFORMATION:

Purpose of the Meeting: The Board will meet to provide advice and recommendations on The top priorities and policies for food and agricultural research, education, extension, and economics. The main focus of this meeting will be to look at programs and activities in Ag Climate Adoption, including landscape-scale conservation and management and climate research and resiliency. The Board will discuss priority setting for the Research, Education, and Economics (REE) mission area, including reviewing the draft USDA Science Plan and Strategic Programmatic themes. The Board will also receive updates from the REE Deputy Under Secretary and the leadership from the REE agencies. A detailed agenda may be received from the contact person identified in this notice or at https://nareeeab.rec.usda.gov/meetings/general-meetings.

On Tuesday, January 28, 2020, the Advisory Board will convene from 8:00 a.m.-5:00 p.m. MST. On Wednesday, January 29, 2020, the Advisory Board will reconvene from 8:00 a.m.-5:00 p.m. MST. And on Thursday, January 30, 2020, the Board will begin at 8:00 a.m. MST and adjourn by 12:00 p.m. (noon) MST.

Public Participation: This meeting is open to the public and any interested individuals wishing to attend. Opportunity for the public comment will be offered each day of the meeting. To attend the meeting and/or make oral statements regarding any items on the agenda, you must contact Michele Esch or Shirley Morgan-Jordan at 202-720-3684: email: nareee@ars.usda.gov at least 5 business days prior to the meeting. Members of the public will be heard in the order in which they signup at the beginning of the meeting. The Chair will conduct the meeting to facilitate the orderly conduct of business. Written comments by attendees or other interested stakeholders will be welcomed for the public record before and up two weeks following the Board meeting (or by close of business Thursday, February 13, 2020). All written statements must be sent to Michele Esch, Designated Federal Officer and Executive Director, National Agricultural Research, Extension, Education, and Economics Advisory Board, U.S. Department of Agriculture, Room 332A, Jamie L. Whitten Building, Mail Stop 0321, 1400 Independence Avenue SW, Washington, DC 20250-0321, or mail: nareee@ars.usda.gov. All statements will become a part of the official record of the National Agricultural Research, Extension, Education, and Economics Advisory Board and will be kept on file for public review in the Research, Education, and Economics Advisory Board Office.

Done at Washington, DC, this day November 25, 2019.
Steve Censky,
Deputy Secretary, U.S. Department of Agriculture.

[FR Doc. 2019-27109 Filed 12-16-19; 8:45 am]

BILLING CODE 3410-03-P